DEPARTMENT OF TRANSPORTATION

Federal Aviation Administration

14 CFR Part 39

[Docket No. FAA-2024-2546; Project Identifier AD-2024-00574-A; Amendment 39-22902; AD 2024-24-11]

RIN 2120-AA64

Airworthiness Directives; Cirrus Design Corporation Airplanes

AGENCY: Federal Aviation Administration (FAA), DOT.

ACTION: Final rule; request for comments.

SUMMARY: The FAA is adopting a new airworthiness directive (AD) for certain Cirrus Design Corporation (Cirrus) Model SR20, SR22, and SR22T airplanes. This AD was prompted by a report of failure of the upper power lever. This AD requires repetitively inspecting (visual) the upper power lever for any crack(s) and depending on the results of any visual inspection, either inspecting (fluorescent penetrant) or replacing the upper power lever. This AD also requires reporting all inspection results to the FAA. The FAA is issuing this AD to address the unsafe condition on these products.

DATES: This AD is effective December 23, 2024.

The Director of the Federal Register approved the incorporation by reference of a certain publication listed in this AD as of December 23, 2024.

The FAA must receive comments on this AD by January 21, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-2546; or in person at Docket Operations between 9 a.m. and 5 p.m., Monday through Friday, except Federal holidays. The AD docket contains this final rule, any comments received, and other information. The street address for Docket Operations is listed above.

Material Incorporated by Reference:

• For Cirrus material identified in this AD, contact Cirrus Design Corporation, 4515 Taylor Circle, Duluth, MN 55811; phone: (218) 788-3000; fax: (218) 788-3525; email: fieldservice@cirrusaircraft.com; website: cirrusaircraft.com.

• You may view this material at the FAA, Airworthiness Products Section, Operational Safety Branch, 901 Locust, Kansas City, MO 64106. For information on the availability of this material at the FAA, call (817) 222-5110. It is also available at regulations.gov under Docket No. FAA-2024-2546.

FOR FURTHER INFORMATION CONTACT: Gregory Koenig, Aviation Safety Engineer, FAA, 1801 S Airport Road, Wichita, KS 67209; phone: (847) 294-7127; email: gregory.l.koenig@faa.gov.

SUPPLEMENTARY INFORMATION:

Comments Invited

The FAA invites you to send any written data, views, or arguments about this final rule. Send your comments to an address listed under the ADDRESSES section. Include “Docket No. FAA-2024-2546; Project Identifier AD-2024-00574-A” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Gregory Koenig, Aviation Safety Engineer, FAA, 1801 S Airport Road, Wichita, KS 67209. Any commentary that the FAA receives which is not specifically designated as CBI will be placed in the public docket for this rulemaking.

Background

The FAA is issuing this AD to correct an unsafe condition on certain Cirrus Model SR20, SR22, and SR22T airplanes. The FAA received a report that a Cirrus Model SR20 airplane was involved in an incident where the upper power lever failed while advancing to full throttle in preparation for takeoff. The flight was successfully aborted by cutting fuel to the airplane. After the incident, an additional 26 upper power levers have been reported to have cracks. The available data indicates that the probability of visual inspection methods to detect cracks in the upper power levers are inadequate, and therefore a fluorescent penetrant inspection (FPI) is also necessary if cracks are not detected during the visual inspection. These cracks have only been discovered on upper power levers that include a takeoff/go-around switch. This condition, if not addressed, could result in loss of engine thrust control and reduced control of the airplane. The FAA is issuing this AD to address the unsafe condition on these products.

FAA's Determination

The FAA is issuing this AD because the agency determined the unsafe condition described previously is likely to exist or develop in other products of the same type design.

Material Incorporated by Reference Under 1 CFR Part 51

The FAA reviewed Cirrus SR2X Service Bulletin SB2X-76-05, dated October 29, 2024 (Cirrus SB2X-76-05). This material specifies procedures for inspecting the upper power lever and replacement of the upper power lever if cracks are found. This material is reasonably available because the interested parties have access to it through their normal course of business or by the means identified in the ADDRESSES section.

AD Requirements

This AD requires accomplishing the actions specified in the material described previously, except as discussed under “Differences Between this AD and the Referenced Material.” This AD also requires sending all inspection results to the FAA.

Differences Between This AD and the Referenced Material

The effectivity in Cirrus SB2X-76-05 specifies certain airplane serial numbers through 9749, but this AD is applicable to Model SR20, SR22, and SR22T airplanes, certificated in any category, that are equipped with upper power lever part number (P/N) 19181-001, 19181-002, or 46505-001.

Cirrus SB2X-76-05 specifies that the compliance time is within 10 flight hours for airplanes with 2,000 flight hours or more, but this AD has a compliance time of before an upper power lever accumulates 1,200 hours time-in-service (TIS), within 10 hours TIS on the upper power lever after the effective date of this AD, or within 15 days after the effective date of this AD, whichever occurs later. This compliance time was developed based on data received from the 27 reported incidents, which indicated that an incident occurred as low as 2,948 hours TIS and that this unsafe condition could occur on airplanes with 1,200 hours TIS accumulated on the upper power lever. Based on this incident data, coupled with the fact that a large number of airplanes are either approaching or over 1,200 hours TIS and the propagation rate for this unsafe condition is unknown, the FAA's risk assessment was that the accumulation of 2,000 flight hours or more would not adequately mitigate the unsafe condition.

Cirrus SB2X-76-05 includes an action to revise the aircraft maintenance manual (AMM) by including a temporary revision that specifies repetitive inspections every 2,000 hours TIS, but this AD does not require this AMM revision. Instead, this AD requires repetitive inspections at intervals not to exceed 110 hours TIS. While Cirrus specifies a repetitive inspection every 2,000 hours TIS, the FAA is requiring a repetitive inspection at a frequency that considers the potential development and propagation of these cracks beyond 1,200 hours TIS.

Cirrus SB2X-76-05 does not specify reporting inspection results and this AD requires reporting inspection results to the FAA.

Cirrus SB2X-76-05 specifies to return cracked (damaged) upper power levers to Cirrus, but this AD does not require this action. This AD, instead, requires removing any cracked (damaged) upper power lever from service.

Replacing the upper power lever with P/N 19181-001, 19181-002, or 46505-001 does not terminate the requirements of this AD. The inspection would be required before any affected upper power lever accumulates 1,200 hours TIS.

Interim Action

The FAA considers this AD to be an interim action. The manufacturer is currently developing a terminating action that will address the unsafe condition identified in this AD. Once the modification is developed, approved, and available, the FAA might consider additional rulemaking.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because cracking in the upper power lever leads to failure of the upper power lever, which could result in loss of engine thrust control and reduced control of the airplane. The FAA's initial analysis based on crack data from the reported incidents shows that this condition could occur on airplanes with 1,200 hours TIS accumulated on the upper power lever. Since a large percentage of the Cirrus Model SR20, SR22, and SR22T airplanes have exceeded or are approaching 1,200 hours TIS and because the propagation rate for this unsafe condition is unknown, an inspection of the upper power lever is required within 10 hours TIS or 15 days after the effective date of this AD, whichever occurs later, for airplanes before accumulating 1,200 hours TIS to detect cracks in the upper power lever. These compliance times are shorter than the time necessary for the public to comment and for publication of the final rule. Accordingly, notice and opportunity for prior public comment are unnecessary, pursuant to 5 U.S.C. 553(b).

In addition, for the foregoing reason(s), the FAA finds that good cause exists pursuant to 5 U.S.C. 553(d) for making this amendment effective in less than 30 days.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD affects 6,811 airplanes of U.S. registry.

The FAA estimates the following costs to comply with this AD:

Estimated Costs
Action | Labor cost | Parts cost | Cost per product | Cost on U.S. operators
Perform visual inspection | 2 work-hours × $85 per hour = $170 per inspection | $0 | $170 per inspection | $1,157,870 per inspection.
Report inspection results | 1 work-hour × $85 per hour = $85 per inspection | 0 | $85 per inspection | $578,935 per inspection.

The FAA estimates the following costs to do any necessary replacements that would be required based on the results of the inspection. The agency has no way of determining the number of airplanes that might need this replacement:

On-Condition Costs
Action | Labor cost | Parts cost | Cost per product
Perform FPI | 2 work-hours × $85 per hour = $170 per inspection | $0 | $170
Replace upper power lever | 1 work-hour × $85 per hour = $85 | 50 | 135

The FAA has included all known costs in its cost estimate. According to the manufacturer, however, some of the costs of this AD may be covered under warranty, thereby reducing the cost impact on affected operators.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, and completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-24-11 Cirrus Design Corporation: Amendment 39-22902; Docket No. FAA-2024-2546; Project Identifier AD-2024-00574-A.

(a) Effective Date

This airworthiness directive (AD) is effective December 23, 2024.

(b) Affected ADs

None.

(c) Applicability

This AD applies to Cirrus Design Corporation Model SR20, SR22, and SR22T airplanes, certificated in any category, that are equipped with upper power lever part number (P/N) 19181-001, 19181-002, or 46505-001.

(d) Subject

Joint Aircraft System Component (JASC) Code 7603, Power Lever.

(e) Unsafe Condition

This AD was prompted by a report of failure of the upper power lever. The FAA is issuing this AD to detect and address cracks in the upper power lever. The unsafe condition, if not addressed, could result in loss of engine thrust control and reduced control of the airplane.

(f) Compliance

Comply with this AD within the compliance times specified, unless already done.

(g) Required Actions

(1) Initially, at whichever time occurs latest in paragraphs (g)(1)(i) through (iii) of this AD and thereafter at intervals not to exceed 110 hours time-in-service (TIS), visually inspect the upper power lever in accordance with paragraphs A. through F. of the Accomplishment Instructions in Cirrus SR2X Service Bulletin SB2X-76-05, dated October 29, 2024 (Cirrus SB2X-76-05).

(i) Before any upper power lever identified in paragraph (c) of this AD accumulates 1,200 hours TIS,

Note 1 to paragraph (g)(1)(i): These parts are not serialized. If by checking the logbook, you cannot determine how many hours the upper power lever has since installation, then you may use the hours TIS of the airplane.

(ii) Within 10 hours TIS on the upper power lever after the effective date of this AD; or

(iii) Within 15 days after the effective date of this AD.

(2) If any crack(s) are found during any inspection required by paragraph (g)(1) of this AD, before further flight, replace the upper power lever with a new (zero hours TIS) upper power lever and do the actions in accordance with paragraphs L. through N. of the Accomplishment Instructions in Cirrus SB2X-76-05, as applicable.

(3) If no crack(s) are found during any inspection required by (g)(1) of this AD, before further flight, perform a fluorescent penetrant inspection in accordance with paragraphs G. through J. of the Accomplishment Instructions in Cirrus SB2X-76-05.

(i) If any crack(s) are found during any inspection required by paragraph (g)(3) of this AD, before further flight, replace the upper power lever with a new (zero hours TIS) upper power lever and do the actions in accordance with paragraphs L. through N. of the Accomplishment Instructions in Cirrus SB2X-76-05, as applicable.

(ii) If no crack(s) are found during any inspection required by paragraph (g)(3) of this AD, reinstall the existing upper power lever and do the actions in accordance with paragraphs L. through N. of the Accomplishment Instructions in Cirrus SB2X-76-05, as applicable.

(4) Cirrus SB2X-76-05 specifies to return cracked (damaged) upper power levers to Cirrus, this AD does not require that action but requires removing any cracked (damaged) upper power lever from service.

(h) Reporting Requirement

Within 5 days after the inspections required by paragraphs (g)(1) and (3) of this AD or within 5 days after the effective date of this AD, whichever occurs later, report all inspection results to the FAA at the address specified in paragraph (j) of this AD. The report must include the airplane registration and serial number, results of each inspection, the airplane's hours TIS, and any additional operator/mechanic comments.

(i) Alternative Methods of Compliance (AMOCs)

The Manager, Central Certification Branch, FAA, has the authority to approve AMOCs for this AD, if requested using the procedures found in 14 CFR 39.19. In accordance with 14 CFR 39.19, send your request to your principal inspector or local Flight Standards District Office, as appropriate. If sending information directly to the manager of the Central Certification Branch, send it to the attention of the person identified in paragraph (j) of this AD. Information may be emailed to: AMOC@faa.gov. Before using any approved AMOC, notify your appropriate principal inspector, or lacking a principal inspector, the manager of the local flight standards district office/certificate holding district office.

(j) Additional Information

For more information about this AD, contact Gregory Koenig, Aviation Safety Engineer, FAA, 1801 S Airport Road, Wichita, KS 67209; phone: (847) 294-7127; email: gregory.l.koenig@faa.gov.

(k) Material Incorporated by Reference

(1) The Director of the Federal Register approved the incorporation by reference (IBR) of the material listed in this paragraph under 5 U.S.C. 552(a) and 1 CFR part 51.

(2) You must use this material as applicable to do the actions required by this AD, unless the AD specifies otherwise.

(i) Cirrus SR2X Service Bulletin SB2X-76-05, dated October 29, 2024.

(ii) [Reserved]

(3) For Cirrus material identified in this AD, contact Cirrus Design Corporation, 4515 Taylor Circle, Duluth, MN 55811; phone: (218) 788-3000; fax: (218) 788-3525; email: fieldservice@cirrusaircraft.com; website: cirrusaircraft.com.

(4) You may view this material at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on November 27, 2024.
Steven W. Thompson,
Acting Deputy Director, Compliance & Airworthiness Division, Aircraft Certification Service.

[FR Doc. 2024-28552 Filed 12-3-24; 11:15 am]

BILLING CODE 4910-13-P